DEPARTMENT OF COMMERCE

International Trade Administration

[A-570-008]

Calcium Hypochlorite From the People's Republic of China: Initiation of Antidumping Duty New Shipper Review; 2014-2015

AGENCY: Enforcement and Compliance, International Trade Administration, Department of Commerce.

DATES: Effective date August 26, 2015.

SUMMARY: The Department of Commerce (“the Department”) has received a timely request for a new shipper review (“NSR”) of the antidumping duty (“AD”) order on calcium hypochlorite from the People's Republic of China (“PRC”). The Department has determined that the request meets the statutory and regulatory requirements for initiation. The period of review (“POR”) for this NSR is July 25, 2014, through June 30, 2015.

FOR FURTHER INFORMATION CONTACT: Irene Gorelik, AD/CVD Operations, Office V, Enforcement and Compliance, International Trade Administration, U.S. Department of Commerce, 14th Street and Constitution Avenue NW., Washington, DC 20230; telephone: 202-482-6905.

SUPPLEMENTARY INFORMATION:

Background

The AD order on calcium hypochlorite was published in the Federal Register on January 30, 2015.¹ On July 20, 2015, pursuant to section 751(a)(2)(B)(i) of the Tariff Act of 1930, as amended (“the Act”), and 19 CFR 351.214(b), the Department received a NSR request from Haixing Jingmei Chemical Products Sales Co., Ltd. (“Haixing Jingmei”).² Haixing Jingmei certified that it is the exporter of the subject merchandise upon which the request is based and that its affiliate, Haixing Eno Chemical Co., Ltd., is the producer of the subject merchandise.³

¹ See Calcium Hypochlorite From the People's Republic of China: Antidumping Duty Order, 80 FR 5085 (January 30, 2015) (“Order”).

² See Letter from Haixing Jingmei, “Entry of Appearance and Corrected Request for New Shipper Review: Calcium Hypochlorite from the People's Republic of China,” dated July 20, 2015 (“NSR Request”).

³ Id., at 2-3 and Exhibit 1.

Pursuant to section 751(a)(2)(B) of the Act and 19 CFR 351.214(b)(2)(ii), Haixing Jingmei certified that it did not export subject merchandise to the United States during the period of investigation (“POI”).⁴ Further, Haixing Eno Chemical Co., Ltd. certified that it is the producer of the subject merchandise upon which the request is based. In addition, pursuant to section 751(a)(2)(B)(i)(II) of the Act and 19 CFR 351.214(b)(2)(iii)(A), Haixing Jingmei certified that, since the initiation of the investigation, it has never been affiliated with any PRC exporter or producer who exported subject merchandise to the United States during the POI, including those respondents not individually examined during the investigation.⁵ As required by 19 CFR 351.214(b)(2)(iii)(B), Haixing Jingmei also certified that its export activities were not controlled by the government of the PRC.⁶

⁴ Id.

⁵ Id.

⁶ Id.

In addition to the certifications described above, pursuant to 19 CFR 351.214(b)(2)(iv), Haixing Jingmei submitted documentation establishing the following: (1) The date on which it first shipped subject merchandise for export to the United States; (2) the volume of its first shipment and subsequent shipments; and (3) the date of its first sale to an unaffiliated customer in the United States.⁷

⁷ Id., at 3 and Exhibit 2; see also Letter from Haixing Jingmei, “Calcium Hypochlorite from the People's Republic of China: Response to Pre-Initiation Question,” dated July 24, 2015.

Finally, the Department conducted a U.S. Customs and Border Protection (“CBP”) database query and confirmed the price, quantity, date of sale, and date of entry of Haixing Jingmei's sales.⁸

⁸ The Department will place the results of the completed CBP database query along with Haixing Jingmei's entry documents on the record after the publication of this notice.

Initiation of New Shipper Review

Pursuant to section 751(a)(2)(B) of the Act, 19 CFR 351.214(b), and 19 CFR 351.214(d)(1), and based on the evidence provided by Haixing Jingmei, we find that its request meets the threshold requirements for initiation of the NSR for shipments of calcium hypochlorite from the PRC produced by Haixing Eno Chemical Co., Ltd. and exported by Haixing Jingmei.⁹ The POR is July 25, 2014, through June 30, 2015.¹⁰ If the information supplied by Haixing Jingmei is found to be incorrect or insufficient during the course of this proceeding, the Department may rescind the review for Haixing Jingmei or apply facts available pursuant to section 776 of the Act, depending on the facts on record.

⁹ See “Memorandum to the File, from Irene Gorelik, Senior Analyst, “Calcium Hypochlorite from the People's Republic of China: New Shipper Initiation Checklist,” dated concurrently with this notice and herein incorporated by reference.

¹⁰ See 19 CFR 351.214(g)(1)(ii)(B).

Absent a determination that the new shipper review is extraordinarily complicated, the Department intends to issue the preliminary results of this NSR within 180 days from the date of initiation and the final results within 90 days after the date on which the preliminary results are issued.¹¹

¹¹ See section 751(a)(2)(B)(iv) of the Act and 19 CFR 351.214(i).

It is the Department's usual practice, in cases involving non-market economies (“NMEs”), to require that a company seeking to establish eligibility for an antidumping duty rate separate from the NME entity-wide rate provide evidence of de jure and de facto absence of government control over the company's export activities. Accordingly, we will issue questionnaires to Haixing Jingmei that will include a section requesting information concerning its eligibility for a separate rate. The NSR will proceed if the responses provide sufficient indication that Haixing Jingmei is not subject to either de jure or de facto government control with respect to its exports of subject merchandise.

We will instruct CBP to allow, at the option of the importer, the posting, until the completion of this review, of a bond or security in lieu of a cash deposit for each entry of the subject merchandise from the requesting companies in accordance with section 751(a)(2)(B)(iii) of the Act and 19 CFR 351.214(e). Because Haixing Jingmei certified that its affiliate Haixing Eno Chemical Co., Ltd. produced the subject merchandise which Haixing Jingmei exported, the sales of which are the basis for the NSR request, we will instruct CBP to permit the use of a bond only for subject merchandise which Haixing Eno Chemical Co., Ltd produced and Haixing Jingmei exported.

Interested parties requiring access to proprietary information in this NSR should submit applications for disclosure under administrative protective order, in accordance with 19 CFR 351.305 and 19 CFR 351.306.

This initiation and notice are in accordance with section 751(a)(2)(B) of the Act, 19 CFR 351.214, and 19 CFR 351.221(c)(1)(i).

Dated: August 19, 2015.
Christian Marsh,
Deputy Assistant Secretary for Antidumping and Countervailing Duty Operations.

[FR Doc. 2015-21185 Filed 8-25-15; 8:45 am]

BILLING CODE 3510-DS-P